DEPARTMENT OF HOUSING AND URBAN DEVELOPMENT

[Docket No. FR-5436-N-02]

Mortgagee Review Board: Administrative Actions

AGENCY: Office of the Assistant Secretary for Housing—Federal Housing Commissioner, Department of Housing and Urban Development (HUD).

ACTION: Notice.

SUMMARY: In compliance with Section 202(c) of the National Housing Act, this notice advises of the cause and description of administrative actions taken by HUD's Mortgagee Review Board against HUD-approved mortgagees.

FOR FURTHER INFORMATION CONTACT: Nancy A. Murray, Secretary to the Mortgagee Review Board, 451 Seventh Street SW., Room B-133/3150, Washington, DC 20410-8000; telephone (202) 708-2224. A Telecommunications Device for Hearing- and Speech-Impaired Individuals (TTY) is available at (800) 877-8339 (Federal Information Relay Service).

SUPPLEMENTARY INFORMATION: Section 202(c)(5) of the National Housing Act (added by Section 142 of the Department of Housing and Urban Development Reform Act of 1989, Public Law 101-235, approved December 15, 1989), requires that HUD “publish a description of and the cause for administrative action against a HUD-approved mortgagee” by the Department's Mortgagee Review Board (Board). In compliance with the requirements of Section 202(c)(5), this notice advises of actions that have been taken by the Board from April 15, 2010 to July 2, 2010.

I. Settlement Agreements, Civil Money Penalties, Withdrawals of FHA Approval, Suspensions, Probations, Reprimands, and Administrative Payments

1. Alethes, LLC, Lakeway, TX [Docket No. 09-9891-MR]

Action: On April 15, 2010, the Board approved an administrative action to immediately withdraw Alethes, LLC's (Alethes) FHA approval for a period of three years and impose a $7,500 civil money penalty.

Cause: The Board took this action based on the following violations of HUD/FHA requirements alleged by HUD: Alethes originated an FHA mortgage after termination of its origination approval agreement; Alethes failed to comply with HUD's annual recertification requirements by failing to submit acceptable audited financial statements.

2. Atlantic Pacific Mortgage Corporation, Pembroke Pines, FL [Docket No. 10-1607-MR]

Action: On April 15, 2010, the Board approved an administrative action to immediately and permanently withdraw Atlantic Pacific Mortgage Corporation's (Atlantic) FHA approval.

Cause: The Board took this action based on the following violation of HUD/FHA requirements alleged by HUD: Atlantic retained and/or employed an owner, director, officer and/or employee who had been indicted for a criminal offense.

3. First Rate Capital Corporation, Melville, NY [Docket No. 10-1001-MR]

Action: On April 15, 2010, the Board approved an administrative action to immediately withdraw First Rate Capital Corporation's (First Rate) FHA approval for a period of one year.

Cause: The Board took this action based on the following violation of HUD/FHA requirements alleged by HUD: First Rate failed to notify HUD of the closure of its home office location.

4. Gold Star Home Mortgage, LLC, St. Joseph, MO [Docket No. 10-1686-MR]

Action: On April 15, 2010, the Board approved an administrative action to immediately withdraw Gold Star Home Mortgage, LLC's (Gold Star) FHA approval for a period of one year.

Cause: The Board took this action based on the following violations of HUD/FHA requirements alleged by HUD: Gold Star failed to notify HUD of an action taken against it by the state of Missouri; Gold Star submitted a false certification to HUD on its Annual Certification Report.

5. Marathon Financial Corporation, Southfield, MI [Docket No. 09-9889-MR]

Action: On April 15, 2010, the Board approved an administrative action to immediately and permanently withdraw Marathon Financial Corporation's (Marathon) FHA approval.

Cause: The Board took this action based on the following violations of HUD/FHA requirements alleged by HUD: Marathon retained and/or employed an owner, director, officer and/or employee who had been indicted for a criminal offense; Marathon failed to submit its annual recertification fee, Yearly Verification Report, and acceptable audited financial statements.

6. Nationwide Equities Corporation, Mahwah, NJ [Docket No. 09-9916-MR]

Action: On April 15, 2010, the Board voted to impose a $20,500 civil money penalty against Nationwide Equities Corporation (Nationwide).

Cause: The Board took this action based on the following violations of HUD/FHA requirements alleged by HUD: Nationwide failed to implement a Quality Control (QC) plan and conduct QC reviews in a timely manner.

7. Precision Financial, Inc., Syosset, NY [Docket No. 09-9897-MR]

Action: On April 15, 2010, the Board approved an administrative action to immediately withdraw Precision Financial, Inc.'s (Precision) FHA approval.

Cause: The Board took this action based on the following violation of HUD/FHA requirements alleged by HUD: Precision failed to notify HUD that it had voluntarily surrendered its state license to originate mortgages.

8. Sacramento Mortgage, Inc., Sacramento, CA [Docket No. 08-8097-MR]

Action: On April 15, 2010, the Board voted to issue a letter of reprimand and impose a $7,500 civil money penalty against Sacramento Mortgage, Inc. (Sacramento).

Cause: The Board took this action based on the following violation of HUD/FHA requirements alleged by HUD: Sacramento used advertisements containing inaccurate and misleading FHA program information.

9. Tucson Mortgage Company, LLC, Tucson, AZ [Docket No. 10-1602-MR]

Action: On April 15, 2010, the Board approved an administrative action to immediately withdraw Tucson Mortgage Company, LLC's (Tucson) FHA approval and impose a $7,500 civil money penalty.

Cause: The Board took this action based on the following violations of HUD/FHA requirements alleged by HUD: Tucson failed to notify HUD of a Cease and Desist order issued against it by the Arizona Department of Financial Institutions; Tucson failed to notify HUD of the surrender of its licenses.

10. Turbo International Corporation d/b/a USA Mortgage, Las Vegas, NV [Docket No. 10-1599-MR ]

Action: On April 15, 2010, the Board approved an administrative action to immediately withdraw Turbo International Corporation's d/b/a USA Mortgage (Turbo) FHA approval.

Cause: The Board took this action based on the following violations of HUD/FHA requirements alleged by HUD: Turbo failed to notify HUD that its state license had expired; Turbo failed to submit its annual certification, recertification fee, and acceptable audited financial statements.

11. 1st Alliance Mortgage LLC, Houston, TX [Docket No. 09-9624-MR]

Action: On April 16, 2010, the Board accepted 1st Alliance Mortgage LLC's (1st Alliance) offer to settle by paying a civil money penalty in the amount of $150,000.

Cause: The Board took this action based on the following violations of HUD/FHA requirements alleged by HUD: 1st Alliance engaged in prohibited branch arrangements; 1st Alliance made false certifications to HUD on loan application forms HUD-92900-A in 708 instances; 1st Alliance failed to implement and maintain a Quality Control (QC) plan and conduct QC reviews; 1st Alliance failed to report compensation to employees on IRS form W-2; 1st Alliance charged unallowable and/or unearned duplicative fees to borrowers; 1st Alliance failed to ensure that fees paid outside of closing were listed on the HUD-1 Settlement Statement.

12. Polaris Home Funding Corporation, Grandville, MI [Docket No. 09-9915-MR]

Action: On May 20, 2010, the Board accepted Polaris Home Funding Corporation's (Polaris) offer to settle by paying a civil money penalty in the amount of $44,000 and indemnifying FHA on seven loans.

Cause: The Board took this action based on the following violations of HUD/FHA requirements alleged by HUD: Polaris violated HUD/FHA staffing requirements; Polaris had numerous loan origination and underwriting deficiencies.

13. Viewpoint Bank, Plano, TX [Docket No. 10-1019-MR]

Action: On May 20, 2010, the Board approved an administrative action to assess a $505,400 administrative payment against Viewpoint Bank (Viewpoint).

Cause: The Board took this action based on the following violations of HUD/FHA requirements alleged by HUD: Viewpoint had numerous loan origination and underwriting deficiencies; Viewpoint failed to ensure that its employees worked for Viewpoint exclusively, including failure to ensure that employees did not have outside employment in a related field.

14. Great Country Mortgage Bankers Corporation, Coral Gables, FL [Docket No. 10-1129-MR]

Action: On May 20, 2010, the Board approved an administrative action to permanently withdraw Great Country Mortgage Bankers Corporation's (Great Country) FHA approval.

Cause: The Board took this action based on the following violations of HUD/FHA requirements alleged by HUD: Great Country failed to conduct targeted Quality Control reviews; Great Country had numerous loan origination and underwriting deficiencies; Great Country failed to ensure that their employees worked for Great Country exclusively; Great Country failed to address discrepancies prior to approval of the insurance endorsement.

15. WR Starkey Mortgage, LLP, Plano, TX [Docket No. 10-1573-MR]

Action: On May 20, 2010, the Board voted to impose a $223,000 civil money penalty against WR Starkey Mortgage, LLP (WR Starkey) and accept WR Starkey's offer to indemnify HUD on 32 mortgages. WR Starkey also agreed to reimburse HUD for 11 of the 32 mortgages that resulted in claims in the amount of $756,406.76.

Cause: The Board took this action based on the following violations of HUD/FHA requirements alleged by HUD: WR Starkey had numerous loan origination and underwriting deficiencies; WR Starkey failed to timely remit Upfront Mortgage Insurance Premiums; WR Starkey allowed a Credit Watch terminated branch to originate loans; WR Starkey failed to ensure that loans met property eligibility requirements; WR Starkey failed to comply with property flipping guidelines; WR Starkey failed to ensure that construction-to-permanent mortgage program requirements were met.

17. Birmingham Bancorp Mortgage Corporation, West Bloomfield, MI [Docket No. 10-1792-MR]

Action: On June 17, 2010, the Board approved an administrative action to immediately withdraw Birmingham Bancorp Mortgage Corporation's (BBMC) FHA approval for a period of five years. On July 2, 2010, the Board terminated the withdrawal action and accepted BBMC's settlement offer of $815,913.13 (this amount included principal and interest totaling $770,913.13 for indemnification on 16 loans and a civil money penalty of $45,000).

Cause: The Board took the original action based on the following violations of HUD/FHA requirements alleged by HUD: BBMC failed to honor the terms of six executed indemnification agreements when BBMC failed to remit payment.

18. Countrywide Home Loans, Inc., Calabasas, CA [Docket No. 09-9846-MR]

Action: On June 17, 2010, the Board accepted a settlement offer from Countrywide Home Loans, Inc. (Countrywide) to pay a civil money penalty of $141,500, buy down the principal on loans totaling $93,263.02, indemnify HUD/FHA on loans, and surrender its FHA approval. In addition, Countrywide's parent company, Bank of America, will maintain its FHA approval and honor the indemnification agreements.

Cause: The Board took this action based on the following violations of HUD/FHA requirements alleged by HUD: Countrywide had loan origination and underwriting deficiencies; Countrywide failed to provide complete loan origination files.

19. Best Interest Rate Mortgage Company, LLC, Haddon Township, NJ [Docket No. 10-1879-MR]

Action: On June 17, 2010, the Board approved an administrative action to permanently withdraw Best Interest Rate Mortgage Company, LLC's (BIRMCO) FHA approval.

Cause: The Board took this action based on the following violations of HUD/FHA requirements alleged by HUD: BIRMCO failed to notify HUD that it had been excluded from doing business in Idaho and Colorado; BIRMCO improperly used a simulated government form implying endorsement by FHA; BIRMCO failed to obtain required state licenses to operate in the States of Idaho and Colorado.

20. Housing Solutions, Inc., Scottsdale, AZ [Docket No. 10-1608-MR]

Action: On June 17, 2010, the Board approved an administrative action to permanently withdraw Housing Solutions, Inc.'s (HSI) FHA approval.

Cause: The Board took this action based on the following violation of HUD/FHA requirements alleged by HUD: HSI failed to notify HUD of the closure of its home office and that it is no longer in business.

21. Action Mortgage Corporation, Cranston, RI [Docket No. 10-1855-MR]

Action: On June 17, 2010, the Board accepted a settlement offer from Action Mortgage Corporation (AMC) to pay a civil money penalty of $2,500.

Cause: The Board took this action based on the following violation of HUD/FHA requirements alleged by HUD: AMC misused the official HUD seal on its Web site.

22. Equity Source Home Loans, LLC, Morganville, NJ [Docket No. 10-1719-MR]

Action: On June 17, 2010, the Board voted to impose a $7,000 civil money penalty against Equity Source Home Loans, LLC (Equity Source).

Cause: The Board took this action based on the following violations of HUD/FHA requirements alleged by HUD: Equity Source misused the names of FHA and HUD, misused the FHA seal, and disseminated a simulated government form implying HUD/FHA or government endorsement.

23. NFM, Inc., Linthicum Heights, MD [Docket No. 10-1712-MR]

Action: On June 17, 2010, the Board voted to impose a $5,000 civil money penalty against NFM, Inc. (NFM).

Cause: The Board took this action based on the following violation of HUD/FHA requirements alleged by HUD: NFM misused the name and seal of the FHA and disseminated advertisements implying HUD/FHA endorsement.

24. Silver Key Lending & Investment Group, Downers Grove, IL [Docket No. 10-1848-MR]

Action: On June 17, 2010, the Board voted to impose a $3,500 civil money penalty against Silver Key Lending & Investment Group (Silver Key).

Cause: The Board took this action based on the following violation of HUD/FHA requirements alleged by HUD: Silver Key misused the seal of the FHA and disseminated advertisements implying HUD/FHA endorsement.

25. Access Mortgage Corporation, New Haven, CT [Docket No. 09-9438-MR]

Action: On June 17, 2010, the Board accepted a settlement offer from Access Mortgage Corporation (Access) to pay a civil money penalty of $3,500.

Cause: The Board took this action based on the following violation of HUD/FHA requirements alleged by HUD: Access failed to notify HUD/FHA within ten business days of a change in its “doing business as” name.

26. American Advisors Group, Irvine, CA [Docket No. 10-1822-MR]

Action: On June 17, 2010, the Board accepted a settlement offer from American Advisors Group (AAG) to pay a civil money penalty of $3,500.

Cause: The Board took this action based on the following violation of HUD/FHA requirements alleged by HUD: AAG's advertisements misrepresented HUD's Home Equity Conversion Mortgage program.

27. Acceptance Capital Mortgage Corporation, Spokane, WA [Docket No. 09-9608-MR]

Action: On May 20, 2010, the Board accepted a settlement offer from Acceptance Capital Mortgage Corporation (Acceptance) to pay a civil money penalty of $14,000.

Cause: The Board took this action based on the following violations of HUD/FHA requirements alleged by HUD: Acceptance allowed a separate legal entity to operate as a branch of Acceptance; Acceptance allowed loans to be originated by loan officers who were also employed by other companies in the real estate industry.

28. Oxford Lending Group, L.P., Columbus, OH [Docket No. 10-1687-MR]

Action: On June 17, 2010, the Board accepted a settlement offer from Oxford Lending Group, L.P. (Oxford) to pay a civil money penalty of $3,500.

Cause: The Board took this action based on the following violation of HUD/FHA requirements alleged by HUD: Oxford improperly used a simulated government form implying endorsement by FHA or the Government.

II. Lenders That Failed To Meet Requirements for Annual Recertification of HUD/FHA Approval

Action: The Board voted to immediately withdraw FHA approval for a period of one year for each of the lenders listed below.

Cause: The Board took this action because the lenders were not in compliance with the HUD's annual recertification requirements.

1. American Home Advisors, Inc., Dana Point, CA

2. At Home Mortgage Brokers, Inc., Phoenix, AZ

3. Bridge Mortgage, Inc., Villa Rica, GA

4. Coastline Mortgage Consultants, LLC, Wilmington, NC

5. Denton County Mortgage Corp., Tyler, TX

6. Fidelity Homes and Loans, Inc., Federal Way, WA

7. Legacy Mortgage LLC, Green Bay, WI

8. Oceanfront Mortgage, Inc., San Diego, CA

9. Alabama Home Mortgage Lending, Birmingham, AL

10. C Bass ABS LLC, New York, NY

11. Castle Home Mortgage Corp., Union, NJ

12. City State Bank, Central City, IA

13. CoFinancial, Inc., Milford, MI

14. Credit Based Asset Servicing, New York, NY

15. DMI Funding, Inc. (Title I), Boise, ID

16. DMI Funding, Inc. (Title II), Boise, ID

17. Gordon Lending Corporation, Dublin, OH

18. Great Harbor Financial Service, Guilford, CT

19. HBM No. One, LLC, Burlington, NC

20. Integrity One Mortgage, Inc., Penns Grove, NJ

21. Mortgage Process Center, Fair Oaks, CA

22. NVX, LLC, Falls Church, VA

23. Powell Financial Services, Inc., San Diego, CA

24. Prosperity Bank St. Augustine, St. Augustine, FL

25. Quickdraw Real Estate Services, Inc., Mill Creek, WA

26. Solutions Financial Group, Inc., Tukwila, WA

27. Three Rivers Financial Services, Inc., Fort Wayne, IN

28. Trinity Financial, Inc., Verona, PA

29. 1st Integrity Mortgage, Inc., Towson, MD

30. Alliance Financing Mortgage Corporation, Mount Prospect, IL

31. American Mortgage Group LLC, Humble, TX

32. American Mortgage Solutions LLC, Burr Ridge, IL

33. Amerinet Financial LLC, Upper Marlboro, MD

34. Apex Funding Inc., Santa Ana, CA

35. Baycal Financial Corporation, Burlingame, CA

36. Benchmark Mortgage Corporation, Schaumburg, IL

37. Broadway Federal Savings and Loan, Los Angeles, CA

38. Building and Loan Mortgage Company, Lenexa, KS

39. C Bass Funding LLC, New York, NY

40. C Bass Funding X LLC, New York, NY

41. Capital Mortgage LLC, Miami, FL

42. Capitol City Bank & Trust Company, Atlanta, GA

43. CCSF LLC, Henderson, NV

44. Champion Mortgage LLC, Corpus Christi, TX

45. Clayson-Mitchell Mortgage Services LC, Salt Lake City, UT

46. Columbia First Mortgage Inc., Battle Ground, WA

47. Community Finance Group Inc., Crystal, MN

48. Community Resource Bank, N.A., Columbia, SC

49. Consumer Lending Inc., Verona, NJ

50. Creative Mortgage Services Inc., Martinez, GA

51. CWA Financial Services Inc., Milledgeville, GA

52. Design Development Mortgage LLC, Fort Collins, CO

53. Direct Mortgage Inc., Norcross, GA

54. Dynamic International Funding, Denver, CO

55. East Shore Mortgage LLC, Madison, CT

56. EDVA Realty Services Inc., Tarzana, CA

57. Element Financial, LLC, Suwanee, GA

58. Ellis Mortgage Company, Poplar Grove, IL

59. E-Tek Capital LLC, Gibbsboro, NJ

60. Emcore Mortgage, LLC, Atlanta, GA

61. Ethical Mortgage Lending LLC, Grove City, OH

62. Evergreen Pacific Mortgage Inc., Eugene, OR

63. Fairfield Financial Mortgage Group, Danbury, CT

64. Firstbank—West Branch, West Branch, MI

65. First Boulder Valley Bank, Boulder, MT

66. First Choice Mortgage Corporation, Stafford, VA

67. First Choice Mortgage Services LLC, Memphis, TN

68. First Primacy Mortgage Corporation, Bel Air, MD

69. First Sierra Mortgage Inc., Sacramento, CA

70. Focus Financial and Mortgage Corporation, Wauconda, IL

71. Fortes Financial Inc., San Diego, CA

72. Founders Mortgage Inc., Edmond, OK

73. Genesis Mortgage Company LLC, Kingwood, TX

74. Gordon Lending Corporation, Dublin, OH

75. Hamilton Mortgage Group LLC, Ridgefield, CT

76. Heights Mortgage Connection Inc., Harker Heights, TX

77. Hometown Community Bank, Braselton, GA

78. Interstate Capital Corporation, Coral Springs, FL

79. JBJ LLC, Henderson, NV

80. Keystone Mortgage Inc., Puyallup, WA

81. LAA Enterprises Inc., Lakeland, FL

82. Lend Select Mortgage, LLC, Mount Laurel, NJ

83. Lowery Mortgage Inc., Cornelius, NC

84. Madison Funding Inc., Baltimore, MD

85. Magnolia Homes Loans, Inc., Oxnard, CA

86. Maximum Mortgage Concepts, West Bridgewater, MA

87. MBS Mortgage Company LLC, Wixom, MI

88. McLaughlin Financial Inc., Salem, MA

89. Metropolitan Mortgage Inc., Providence, RI

90. MidAmerica Mortgage Corporation, New Hope, MN

91. MMA Mortgage Investment Corporation, Tampa, FL

92. Mortgage Connection of Evansville Inc., Evansville, IN

93. Mortgage Pros Ltd, Elmhurst, IL

94. Namorex, LLC, Wilton, NH

95. New Hope Community Development Federal Credit Union, Birmingham, AL

96. North Florida Funding Inc., Jacksonville, FL

97. Northpark Community Credit Union, Indianapolis, IN

98. Old Providence Mortgage Company, Farmington, UT

99. Paraiso LLC, Atlanta, GA

100. Paramount Bank, Lexington, KY

101. Pledged Property IV LLC, New York, NY

102. Popular Mortgage Corp., (Title I), Hialeah, FL

103. Popular Mortgage Corp., (Title II), Hialeah, FL

104. Price Financial Services Inc., Rochester, MN

105. Primary Access America Corporation, Mission Viejo, CA

106. Prime Alliance Bank, Wood Cross, UT

107. Prime Source Mortgage, Inc., Scottsdale, AZ

108. Priority Mortgage, Inc., Wayne, IN

109. Pronto Mortgage Lenders Corp., Hialeah Gardens, FL

110. Provident Capital Mortgage, Inc., Cranston, RI

111. R & S Financial Inc., Plymouth, MA

112. Residential Mortgage Services Inc. (Title I), Lexington, KY

113. Residential Mortgage Services Inc. (Title II), Lexington, KY

114. Results One Mortgage Corp., Elmhurst, IL

115. Samsara Mortgage Services Inc., Oakbrook, IL

116. San Juan Mountains Credit Union, Montrose, CO

117. Schyndel Investments Inc., Layton, UT

118. Security Mortgage Corporation, Phoenix, AZ

119. Silver Sierra Mortgage Inc., Cameron Park, AZ

120. Signature Mortgage, LLC, Huntsville, AL

121. Source 1 Capital Mortgage Corporation, Clifton, NJ

122. South Ross Mortgage LLC, Lancaster, SC

123. Trinity Mortgage Company Inc., Fort Wayne, IN

124. United Financial Management Group Inc., Clarks Summit, PA

125. VIP Mortgage Corporation, Danvers, MA

126. Wakefield Lending Company LLC, Raleigh, NC

127. Wonder State Mortgage Inc., Little Rock, AR

III. Lenders That Failed to Timely Meet Requirements for Annual Recertification of HUD/FHA Approval and Have Cured

Action: The Board voted to give the lenders below an opportunity to settle. The settlements required each lender to pay a $7,500, $3,500, or $1,000 civil money penalty without admitting fault or liability.

Cause: The Board took this action because the lenders failed to timely comply with the HUD's annual recertification requirements, however, they are now in compliance.

1. 3rd Generation Mortgage, LLC, Bayville, NJ, 10-1930-MRT

2. American Capital Mortgage Bankers, Ltd., Floral Park, NY, 10-1348-MRT

3. Apex Mortgage, LLC, Meridian, ID, 10-1298-MRT

4. Capital Funding and Mortgage Group, Inc., Suwanee, GA, 10-1478-MRT

5. Centrue Bank, Ottawa, IL, 10-1416-MRT

6. Citizens State Bank, New Baltimore, MI, 10-1473-MRT

7. CLO Funding Corporation, Piscataway, NJ, 10-4448-MRT

8. Empire Financial Services Inc., Rockville, MD, 10-1521-MRT

9. Golden Mortgage Corporation, Bridgewater, NJ, 10-1485-MRT

10. Home Mortgage Solutions, LLC, Midlothian, VA, 10-1247-MRT

11. Home Owners Financial Services, Los Angeles, CA, 10-1353-MRT

12. LA Mortgage Services, Inc., Clarks Green, PA, 10-1045-MRT

13. Landon Financial, Inc., Margate, FL, 10-1258-MRT

14. Lighthouse Home Loans, Inc., Salem, OR, 10-1495-MRT

15. Lincoln Financial, Inc., Wayne, NJ, 10-1379-MRT

16. Mortgages Unlimited, Inc., Liberal, KS, 10-1357-MRT

17. PC Funding, Inc., Cerritos, CA, 10-1924-MRT

18. Plum Creek Funding, Inc., Parker, CO, 10-1519-MRT

19. Raustin Mortgage Services LLC, Grandville, MI, 10-1214-MRT

20. RJ Financial Services, Inc., San Antonio, TX, 10-1488-MRT

21. Robert P. Lenz & Associates, Inc., Matthews, NC, 10-1569-MRT

22. Seaside Home Mortgage, Inc., Sebastian, FL, 10-1568-MRT

23. Sun Mortgage Corp. of Missouri, Inc., Saint Louis, MO, 10-1552-MRT

24. Terra Ferma Mortgage, Inc., Houston, TX, 10-1900-MRT

25. Your Money Center, LLC, Hartwell, GA, 10-1449-MRT

26. AAA Financial Corp., Coral Springs, FL, 10-1932-MRT

27. Advantis Credit Union, Portland, OR, 10-1933, MRT

28. American Mortgage Group, Inc., Shawnee, OK, 10-1934, MRT

29. Becker Real Estate Services, Inc., Lynbrook, NY, 10-1935-MRT

30. Carson Bank (f/k/a Mulvane State Bank), Mulvane, KS, 10-1936-MRT

31. CBRE HMF, Inc., Atlanta, GA, 10-1937-MRT

32. Coral Mortgage Bankers Corporation, Chesterfield, MO, 10-1938-MRT

33. Constitution Trust Mortgage Corp., Plainville, MA, 10-1906-MRT

34. Custom Equity Mortgage, LLC, St. Louis, MO, 10-1939-MRT

35. DATCU Credit Union, Denton, TX, 10-1940-MRT

36. Financial Dynamics Funding Corp., Jericho, NY, 10-1941-MRT

37. Great Florida Lending, Inc., Miami, FL, 10-1942-MRT

38. Heritage Bank and Trust, Columbia, TN, 10-1943-MRT

39. Home First Mortgage, Birmingham, AL, 10-1944-MRT

40. Infinity Lending Group, Tustin, CA, 10-1053-MRT

41. IZT Mortgage, Inc. d/b/a Ameritech Mortgage, Walnut Creek, CA, 10-1945-MRT

42. Lexington Investment Mortgage Co., Lexington, KY, 10-1907-MRT

43. Lincoln Mortgage Associates, LLC, Lansdale, PA, 10-1946-MRT

44. Metropolitan Mortgage Broker, LLC, Philadelphia, PA, 10-1947-MRT

45. Mortgage 1st, Inc., Ridgeland, MS, 10-1948-MRT

46. Mortgage Options of America, Inc., Winchester, MA, 10-1949-MRT

47. Northern Funding Corporation, Clifton Park, NY, 10-1412-MRT

48. Organization Matters, Inc., Apple Valley, CA, 10-1950-MRT

49. PLB Lending LLC, Washington, MI, 10-1951-MRT

50. Valley Financial, Inc., Corning, CA, 10-1953-MRT

51. Wellington Funding Group LLC, Scottsdale, AZ, 10-1955-MRT

52. WF and K Mortgage, Inc., Dunmore, PA, 10-1956-MRT

53. ACE Cash Express Home Loans LLC, Irving, TX, 10-1969-MRT

54. Advocate Equities Corp., Brooklyn, NY, 10-1427-MRT

55. Alliance Capital Corporation, Oklahoma City, OK, 10-1970-MRT

56. American Security Financial Corporation, Modesto, CA, 10-1511-MRT

57. Ameristate Bancorp Inc., Youngstown, OH, 10-1971-MRT

58. Associated Capital Resources Inc., Phoenix, AZ, 10-1616-MRT

59. Assured Funding Corporation, Jackson, TN, 10-1248-MRT

60. Bank of Bridger, Bridger, MT, 09-9138-MRT

61. Boulder West Financial Services, Lafayette, CO, 10-1428-MRT

62. Central Bank and Trust, Lander, WY, 10-1471-MRT

63. Creative Mortgage Partners LLC, Maplewood, MN, 09-9128-MRT

64. Crossline Capital Inc., Irvine, CA, 10-1481-MRT

65. Elite Financial Investments Inc., Oakbrook, IL, 10-1122-MRT

66. Enterprise Community Investment Inc., Columbia, MD, 09-9137, MRT

67. First American Dream Mortgage Inc., Chicago, IL, 10-1360-MRT

68. First Financial Bank N.A., Hamilton, OH, 09-9204-MRT

69. First Mortgage Group LLC, Woodstock, GA, 10-1972-MRT

70. First Star Funding Corp., Olympia Fields, IL, 10-1707-MRT

71. Freedom One Funding Inc., Clifton Park, NY, 10-1557-MRT

72. FRMP Inc., Loveland, CO, 10-1431-MRT

73. Grow Mortgage Company, LLC, Franklin, KY, 10-1368-MRT

74. HD Legacy Inc., Placentia, CA, 10-1061-MRT

75. Home Worx Mortgage LLC, Edmond, OK

76. KBA Financial Group LLC d/b/a First Homeland Mortgage, South Orange, NJ 09-9812-MRT

77. Midwest Mortgage Partners LLC, Clive, IA, 10-1466-MRT

78. Mortgage Strategies Inc., Benicia, CA, 10-1973-MRT

79. Mountain State Lending Associates, Inc., Weirton, WV, 10-1903-MRT

80. Nationside Mortgage Inc., Gaithersburg, MD, 10-1114-MRT

81. Potomac Mortgage Capital Inc., Great Falls, VA, 09-9857-MRT

82. Prestige Home Mortgage LLC, Owings Mills, MD, 10-1426-MRT

83. Professional Financial Mortgage Inc., Southfield, MI, 10-1314-MRT

84. Rowlett Mortgage Lending Ltd., Garland, TX, 10-1338-MRT

85. Rudkin Enterprises LLC, Little Rock, AR, 10-1232-MRT

86. Society Financial Corp., Farmington, CT, 10-1419-MRT

87. Superior Lending Associates LC, Orem, UT, 10-1974-MRT

88. Wilmington Finance Inc., Plymouth Meeting, PA, 10-1975-MRT

Dated: December 20, 2010.
David H. Stevens,
Assistant Secretary for Housing—Federal Housing Commissioner.

[FR Doc. 2010-32443 Filed 12-23-10; 8:45 am]

BILLING CODE 4210-67-P